DEPARTMENT OF JUSTICE

Parole Commission

Sunshine Act Meetings

TIME AND DATE: 1:00 p.m. Thursday, October 14, 2021.

PLACE: U.S. Parole Commission, 90 K Street NE, 3rd Floor, Washington, DC.

STATUS: Open.

MATTERS TO BE CONSIDERED:

1. Approval of July 13, 2021 Quarterly Meeting Minutes.

2. Pandemic Updates since July Quarterly Meeting from the Acting Chairman, Commissioner, Acting Chief of Staff/Case Operations Administrator, Case Services Administrator, Executive Officer, and General Counsel.

3. Update on the proposals voted forth at July 2021 Quarterly Meeting.

4. Vote on Final Rule for 28 CFR 2.218(e).

CONTACT PERSON FOR MORE INFORMATION: Jacquelyn Graham, Staff Assistant to the Chairman, U.S. Parole Commission, 90 K Street NE, 3rd Floor, Washington, DC 20530, (202) 346-7010.

Patricia K. Cushwa,
Acting Chairperson, U.S. Parole Commission.

[FR Doc. 2021-22254 Filed 10-7-21; 4:15 pm]

BILLING CODE 4410-31-P